FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 23, 2008.

A. Federal Reserve Bank of St. Louis (Glenda Wilson, Community Affairs Officer) P.O. Box 442, St. Louis, Missouri 63166-2034:

1. The O'Laughlin Group, which consists of Frances L. O'Laughlin, Mesa, Arizona; Terrence L. O'Laughlin, Fayette, Missouri; Jeffrey B. O'Laughlin, Ashland, Missouri; Russell L. O'Laughlin and Kelly D. Wilt, both of Shelbina, Missouri; to acquire control of Community State Bancshares, Inc., and thereby indirectly acquire control of Community State Bank, both of Shelbina, Missouri.

2. Donna Joyce Ramsey, individually and as trustee of the Richard D. Ramsey Revocable Trust, Macon, Missouri, to acquire control of Community State Bancshares, Inc., and thereby indirectly acquire control of Community State Bank, both of Shelbina, Missouri.

Board of Governors of the Federal Reserve System, September 3, 2008.
Robert deV. Frierson,
Deputy Secretary of the Board.

[FR Doc. E8-20718 Filed 9-5-08; 8:45 am]

BILLING CODE 6210-01-S